TENNESSEE VALLEY AUTHORITY

Meeting of the Regional Resource Stewardship Council

AGENCY: Tennessee Valley Authority (TVA).

ACTION: Notice of meeting.

SUMMARY: The Regional Resource Stewardship Council (Regional Council) will hold a meeting to consider various matters. Notice of this meeting is given under the Federal Advisory Committee Act, 5 U.S.C. App. 2, (FACA).

The meeting agenda includes the following/briefings:

1. Recognition of Contribution of Mayor Eddie Smith, Jr.

2. Overview of river navigation and infrastructure

3. Continuation of aquatic plant management policy recommendation discussion

4. Recommendation from integrated river management subcommittee on integrated management of the Tennessee River system

5. Public comments

6. Subcommittee reports

It is the Regional Council's practice to provide an opportunity for members of the public to make oral public comments at its meetings. Public comment session is scheduled from 1 p.m.-2 p.m. CST. Members of the public who wish to make oral public comments may do so during the Public comments portion of the agenda. Up to one hour will be allotted for the Public comments with participation available on a first-come, first-served basis. Speakers addressing the Council are requested to limit their remarks to no more than 5 minutes. Persons wishing to speak register at the door and are then called on by the Council Chair during the public comment period. Hand-out materials should be limited to one printed page. Written comments are also invited and may be mailed to the Regional Resource Stewardship Council, Tennessee Valley Authority, 400 West Summit Hill Drive, WT 11A, Knoxville, Tennessee 37902.

DATES: The meeting will be held on Friday, March 9, 2001, from 8:30 a.m. to 4:30 p.m. CST.

ADDRESSES: The meeting will be held in Olive Branch, Mississippi, at the Whispering Woods Hotel and Conference Center, 11200 E. Goodman Road, Olive Branch, Mississippi 38654, and will be open to the public. Anyone needing special access or accommodations should let the contact below know at least a week in advance.

FOR FURTHER INFORMATION CONTACT: Sandra L. Hill, 400 West Summit Hill Drive, WT 11A, Knoxville, Tennessee 37902, (865) 632-2333.

Dated: February 14, 2001.
Kathryn J. Jackson,
Executive Vice President, River System Operations & Environment, Tennessee Valley Authority.

[FR Doc. 01-4473 Filed 2-22-01; 8:45 am]

BILLING CODE 8120-08-M